DEPARTMENT OF HOMELAND SECURITY

[Docket No. USCBP-2019-0036]

Privacy Act of 1974; System of Records

AGENCY: U.S. Customs and Border Protection, Department of Homeland Security.

ACTION: Rescindment of a System of Records notice.

SUMMARY: In accordance with the Privacy Act of 1974, the Department of Homeland Security/U.S. Customs and Border Protection is giving notice that it proposes to rescind the following Department of Homeland Security (DHS)/U.S. Customs and Border Protection (CBP) Privacy Act system of records notice, “Department of Homeland Security/U.S. Customs and Border Protection-017 Analytical Framework for Intelligence (AFI)” System of Records and replace it with “Department of Homeland Security(DHS)/U.S. Customs and Border Protection(CBP)-024 CBP Intelligence Records System (CIRS) System of Records.”

DATES: These changes will take effect upon publication.

ADDRESSES: You may submit comments, identified by docket number USCBP-2019-0036 by one of the following methods:

• Federal e-Rulemaking Portal: http://www.regulations.gov. Follow the instructions for submitting comments.

• Fax: 202-343-4010.

• Mail: Jonathan R. Cantor, Acting Chief Privacy Officer, Privacy Office, Department of Homeland Security, Washington, DC 20528-0655.

FOR FURTHER INFORMATION CONTACT: For general questions, please contact: Debra L. Danisek, (202) 344-1610, Privacy.CBP@cbp.dhs.gov, CBP Privacy Officer, U.S. Customs and Border Protection, Washington, DC 20004. For privacy questions, please contact: Jonathan R. Cantor, (202) 343-1717, Privacy@hq.dhs.gov, Acting Chief Privacy Officer, Privacy Office, Department of Homeland Security, Washington, DC 20528-0655.

SUPPLEMENTARY INFORMATION: Pursuant to the provisions of the Privacy Act of 1974, 5 U.S.C. 552a, and as part of its ongoing integration and management efforts, the Department of Homeland Security (DHS) is rescinding the following system of records notice (SORN), “Department of Homeland Security(DHS)/U.S. Customs and Border Protection(CBP)-017 Analytical Framework for Intelligence (AFI)” System of Records, and replace it, and rely upon for records collected and maintained to support CBP's law enforcement intelligence mission, with “Department of Homeland Security(DHS)/U.S. Customs and Border Protection(CBP)-024 CBP Intelligence Records System (CIRS) System of Records” (82 FR 44198, September 21, 2017). Eliminating this notice will have no adverse impacts on individuals, but will promote the overall streamlining and management of DHS Privacy Act record systems.

SYSTEM NAME AND NUMBER:

Department of Homeland Security/U.S. Customs and Border Protection-017 Analytical Framework for Intelligence.

HISTORY:

Department of Homeland Security/U.S. Customs and Border Protection-017 Analytical Framework for Intelligence (AFI) (June 7, 2012, 77 FR 33753).

Jonathan R. Cantor,
Acting Chief Privacy Officer, Department of Homeland Security.

[FR Doc. 2020-04982 Filed 3-10-20; 8:45 am]

BILLING CODE 9111-14-P